ENVIRONMENTAL PROTECTION AGENCY

40 CFR Part 300

[EPA-HQ-SFUND-1983-0002; FRL-9657-7]

National Oil and Hazardous Substances Pollution Contingency Plan; National Priorities List: Deletion of the A & F Material Reclaiming, Inc. Superfund Site

AGENCY: Environmental Protection Agency.

ACTION: Direct final rule.

SUMMARY: The Environmental Protection Agency (EPA) Region 5 is publishing a direct final Notice of Deletion of the A & F Material Reclaiming, Inc. Superfund Site (Site), located in Greenup, Illinois from the National Priorities List (NPL). The NPL, promulgated pursuant to Section 105 of the Comprehensive Environmental Response, Compensation, and Liability Act (CERCLA) of 1980, as amended, is an appendix to the National Oil and Hazardous Substances Pollution Contingency Plan (NCP). This direct final deletion is being published by EPA with the concurrence of the State of Illinois, through the Illinois Environmental Protection Agency (IEPA), because EPA has determined that all appropriate response actions under CERCLA have been completed. However, this deletion does not preclude future actions under Superfund.

DATES: This direct final deletion is effective June 11, 2012 unless EPA receives adverse comments by May 14, 2012. If adverse comments are received, EPA will publish a timely withdrawal of the direct final deletion in the Federal Register informing the public that the deletion will not take effect.

ADDRESSES: Submit your comments, identified by Docket ID No. EPA-HQ-SFUND-1983-0002, by one of the following methods:

• http://www.regulations.gov: Follow online instructions for submitting comments.

• Email: Gladys Beard, NPL Deletion Process Manager, at beard.gladys@epa.gov or Janet Pope, Community Involvement Coordinator, at pope.janet@epa.gov.

• Fax: Gladys Beard, NPL Deletion Process Manager, at (312) 697-2077.

• Mail: Gladys Beard, NPL Deletion Process Manager, U.S. Environmental Protection Agency (SR-6J), 77 West Jackson Boulevard, Chicago, IL 60604, (312) 886-7253; or Janet Pope, Community Involvement Coordinator, U.S. Environmental Protection Agency (SI-7J), 77 West Jackson Boulevard, Chicago, IL 60604, (312) 353-0628 or (800) 621-8431.

• Hand delivery: Janet Pope, Community Involvement Coordinator, U.S. Environmental Protection Agency (SI-7J), 77 West Jackson Boulevard, Chicago, IL 60604. Such deliveries are only accepted during the docket's normal hours of operation, and special arrangements should be made for deliveries of boxed information. The normal business hours are Monday through Friday, 8:30 a.m. to 4:30 p.m., excluding federal holidays.

Instructions: Direct your comments to Docket ID No. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information may not be publicly available, e.g., CBI or other information whose disclosure is restricted by statute. Certain other material, such as copyrighted material, will be publicly available only in the hard copy. Publicly available docket materials are available either electronically at http://www.regulations.gov or in hard copy at:

• U.S. Environmental Protection Agency—Region 5, 77 West Jackson Boulevard, Chicago, IL 60604. Phone: (312) 353-1063. Hours: Monday through Friday, 8:30 a.m. to 4:30 p.m., excluding federal holidays.

• Greenup City Clerk's Office, Greenup Municipal Building, 115 Cumberland Avenue, Greenup, IL 62428. Phone: (217) 923-3401. Hours: Monday through Friday, 7:30 a.m. to 4:30 p.m.

FOR FURTHER INFORMATION CONTACT: Gladys Beard, NPL Deletion Process Manager, U.S. Environmental Protection Agency (SR-6J), 77 West Jackson Boulevard, Chicago, IL 60604, (312) 353-2315, or beard.gladys@epa.gov.

SUPPLEMENTARY INFORMATION:

Table of Contents

I. Introduction

II. NPL Deletion Criteria

III. Deletion Procedures

IV. Basis for Site Deletion

V. Deletion Action

I. Introduction

EPA Region 5 is publishing this direct final Notice of Deletion of the A & F Material Reclaiming, Inc. Superfund Site from the National Priorities List (NPL). The NPL constitutes Appendix B of 40 CFR part 300, which is the National Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective June 11, 2012 unless EPA receives adverse comments by May 14, 2012. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the A & F Material Reclaiming, Inc. Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

1. Responsible parties or other persons have implemented all appropriate response actions required;

2. All appropriate Fund-financed response under CERCLA has been implemented, and no further response action by responsible parties is appropriate; or

3. The remedial investigation has shown that the release poses no significant threat to public health or the environment and, therefore, the taking of remedial measures is not appropriate.

III. Deletion Procedures

The following procedures apply to deletion of the Site:

1. EPA consulted with the State of Illinois prior to developing this direct final Notice of Deletion and the Notice of Intent to Delete co-published today in the “Proposed Rules” section of the Federal Register.

2. EPA has provided the State with 30 working days for review of this notice and the parallel Notice of Intent to Delete prior to their publication today, and the State, through IEPA, has concurred on the deletion of the Site from the NPL.

3. Concurrently with the publication of this direct final Notice of Deletion, a notice of the availability of the parallel Notice of Intent to Delete is being published in a major local newspaper, the Times Courier News, located in Charleston, Illinois. The newspaper notice announces the 30-day public comment period concerning the Notice of Intent to Delete the Site from the NPL.

4. EPA placed copies of documents supporting the proposed deletion in the deletion docket and made these items available for public inspection and copying at the Site information repositories identified above.

5. If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The A & F Material Reclaiming, Inc. Superfund Site (CERCLIS ID# ILD980397079) is located on approximately four acres of land on the western border of the Village of Greenup, in east-central Illinois. The Site, which lies on the west side of the village, is bounded by open farmland and woodland, the local wastewater treatment plant, and private residences; fairgrounds lie to the southwest. The Site has a slope toward the Embarras River, which lies about 600 feet to the north. Drainage from the Site reaches the river by way of a ditch along a former railroad right-of-way west of the Site and east of the municipal wastewater treatment plant. The local wastewater treatment plant has several lagoons and the plant discharges the treated water into the ditch along the railroad right-of-way.

Three distinct aquifers exit at the Site: Alluvium till, present at or near ground surface; sand and gravel, present at shallow depths below ground surface, and bedrock. The shallow aquifer is a poor water producer and is not used as a source of water supply. However, it does furnish recharge to the underlying sand and gravel. The alluvium forms an essentially level surface and contains groundwater at shallow depths in the range of 8 to 12 feet below grade. According to the measured water levels, groundwater flow is directed downslope to the west and north of the Site. No private wells have been found north or west of the Site. The sand and gravel outwash aquifer is a regionally significant unit which is present beneath the entire Site and receives recharge from the overlying alluvium. In the outwash sand and gravel aquifer, groundwater flow is generally downslope from the highlands east of the Site, and flow in the level section of the study area is directed northward toward the Embarras River. Discharge is also directed toward the Embarras River. The bedrock aquifer is not significant in the area of the Site. Water contained in the fractured section of the Pennsylvanian bedrock is present under strong artesian conditions. Recharge of the bedrock aquifer probably occurs from overlying units located elsewhere where water levels are higher than those observed in the study area. Based upon water level data from the remedial investigation, neither of the unconsolidated aquifers encountered on-site discharges to the drainage ditch. The lagoons constructed on site during operation of the facility were excavated into the unsaturated portion of the alluvial aquifer.

The historic use of the Site has been for industrial purposes. However, there have not been any industrial activities at the Site since the facility closed in 1980. The A & F Material Reclaiming facility began operations in March 1977 as a recycling plant. The facility processed waste materials such as oil, sludge, caustics, and sulfuric acid into fuel oil and fire retardant chemicals. There were numerous violations of the operating permits issued by IEPA. Within a year of operating, four storage lagoons overflowed, contaminating the surrounding soil and water drainage pathway to the Embarras River. In addition, some of the steel storage tanks failed on several occasions, releasing their contents on the Site. These tanks held mixtures of waste oils, sludges, spent caustics, spent acids, contaminated water, and other waster products. Present land use for the surrounding area is residential, commercial, and recreational (fairgrounds are located southwest of the Site). Currently no groundwater underlying the Site is used as a drinking water source.

From December 1980 through December 1982 there were several removal actions at the Site in which contaminated soils, sediments, tank, and buildings were removed and disposed off site. These actions included lowering the level of waste in the lagoons, diking, trenching, and removing drums and wastes off site. In addition, a temporary cap was placed over a portion of the consolidated sludge on site.

In December 1982 the Site was included on the Proposed NPL (47 FR 58476). The Site was finalized on the NPL on September 8, 1983 (48 FR 40674). In November 1983 an Initial Remedial Measure was implemented to address remaining site contaminants in tanks and drums. The remaining on-site waste included approximately 153,000 gallons of contaminated liquids in tanks, 16,000 gallons of contaminated oil in tanks, and 20 drums with unknown contents. All tank liquids, oils, and drums were disposed off site at an approved facility through the Initial Remedial Measure.

On September 12, 1984, a Partial Consent Decree was entered into by four of the potentially responsible parties, which outlined a remedial action plan that included a phased approach for cleaning up the Site. The first phase included the remedial investigation and the feasibility study; the second phase was an immediate removal action to address the threatened release of contaminates from the two lagoons; the third phase involved removal and disposal of contaminated soils and sediments, removal and disposal of the building and equipment, final site grading, air monitoring, and site security; and the final phase of the remedial action plan involved closure and groundwater monitoring requirements.

Remedial Investigation and Feasibility Study

The remedial investigation report did not include a formal baseline risk assessment. Since the lagoon sludge, wastewater, oil, and tank waste were removed under the Interim Remedial Measure, they posed no environmental impacts or adverse health effects to the neighboring community. The primary concerns associated with the Site were from ingestion or direct contact exposures to the soil, sediment, groundwater, and surface water. Soils in the area of the tank farm were contaminated and posed an environmental threat. Several sediment samples taken from the drainage ditch showed low levels of polynuclear aromatic hydrocarbons, but sediments from the river did not have any substantial contamination. Neither the drainage ditch nor the river showed any contamination above background levels.

Data from groundwater monitoring wells showed elevated levels of sulfate, total dissolved solids (TDS), and oil and grease. Additionally, several metals were detected at levels higher than background and in some cases higher than the IEPA standard for groundwater. Because of the dilution effect between the groundwater and surface water, it was expected that the contaminated groundwater would not cause contamination in the river. Also, the planned removal of contaminated materials from the Site would remove the primary source of contamination to the groundwater. The remedial investigation concluded there was a high flow rate through the sand and gravel aquifer, which would allow for rapid flushing of any residual contaminants.

Selected Remedy

1985 and 1986 Enforcement Decision Document (EDD) Findings:

EPA issued an EDD for Operable Unit 1 (OU1) on June 14, 1985 that addressed the soil, sediments, building, and equipment. The goal of this remedy was to remove soils found with contamination above action levels for site contaminants of concern (COCs) and to remove on-site buildings in order to protect public health, welfare, and the environment. The remedy for OU1 included:

• All soils, surface and subsurface, contaminated above the recommended action levels were to be removed and disposed at an off-site facility;

• Facility equipment and building structures were to be cleaned, dismantled, removed, and disposed at an off-site facility;

• Site grading to eliminate ponding;

• Maintenance of a vegetative cover to prevent erosion; and

• Groundwater monitoring to confirm that no further soil removal was required.

On August 14, 1986 EPA issued an EDD for Operable Unit 2 (OU2) that addressed groundwater. The goal of this remedy was to restore groundwater to below Maximum Concentration Levels (MCLs) in order to protect public health, welfare, and the environment. The remedy for OU2 included:

• Establishing a groundwater monitoring program to test whether all residual groundwater contamination remaining after the cleanup would steadily decrease to safe levels by natural dilution and purging to the Embarras River without causing violation of the water quality standards of the river;

• Establishing adequate institutional controls so that drinking water wells are not placed in the contaminated groundwater areas during the period of natural dilution and purging; and

• Establishing procedures for regular review of monitoring data until safe levels are reached or data contradicting the feasibility study conclusions demonstrates the need to reevaluate the remedy.

2010 ESD Findings:

On May 24, 2010 an Explanation of Significant Differences (ESD) was signed by EPA. The purpose of the ESD was to eliminate iron, manganese, sulfate, and TDS as site contaminants of concern from the groundwater cleanup remedy selected in the 1986 EDD for OU2. These contaminants were removed because the action levels for these four parameters are secondary MCLs, which are non-enforceable guidelines regulating contaminants that may cause cosmetic or aesthetic effects in drinking water. Furthermore, review of groundwater data by EPA concluded that these constituents are naturally occurring, do not pose a risk to human health and the environment, and are stable or decreasing in concentration.

Response Actions

With the implementation of the OU1 remedy, an additional 1,600 tons of soil and sludge, 1,300 cubic yards of polychlorinated biphenyl (PCB)-contaminated soil, and a process building with contaminated equipment were removed from the Site. The soils remaining on site were sampled and analyzed prior to placing clean fill over the area. All compounds analyzed for, including PCBs, were at non-detectable limits. Only phenols and benzoic acid were detected in two pocket areas, but the detected levels were below action levels. Soil and sediment action levels in the 1985 EDD for OU1 remain protective. Any remaining residual soil or sediment contamination are at levels comparable to concentrations found naturally in the environment and do not present any environmental or public health risks. The entire area was then filled with clean soil, graded, and vegetated.

The groundwater monitoring program was agreed to by the Consenting Defendants in 1988 and documented in the August 1988 Remedial Action Plan as required by the August 14, 1986 EDD for OU2. EPA approved the design, including plans and specifications for well placement, project health and safety plan, and quality assurance project plan in May 1990. Well construction was completed, and a final inspection was conducted on July 9, 1990.

EPA signed the Preliminary Close-Out Report, documenting that all construction activities for the final operable unit at the Site had been completed on September 24, 1992. In 2000, as part of the institutional controls requirements for the Site, Cumberland County and the Village of Greenup adopted ordinances restricting groundwater use on approximately 68 acres that include the A & F Material Reclaiming Site and some surrounding areas. The ordinances were intended to prevent contact and use of the contaminated groundwater at and near the Site until groundwater quality reaches safe levels, in accordance with the 1986 EDD for OU2.

With the signing of the May 24, 2010 ESD, all groundwater cleanup levels have been attained and groundwater monitoring is no longer required. The 1986 EDD for OU2 specified that “institutional controls will be required until groundwater quality returns to background levels or below the State and Federal criteria shown in Table 2” (Table 1). Because groundwater cleanup levels have been attained, EPA no longer requires that institutional controls be maintained at the Site.

Cleanup Goals

Under the August 1988 Remedial Action Plan required by the August 14, 1986 EDD for OU2, several additional monitoring wells were installed and a few existing wells were abandoned. Twenty parameters listed in the 1986 EDD for OU2 (Table 1) were to be periodically monitored until their concentrations dropped below the action levels specified in the EDD. The action levels were based upon MCLs and secondary MCLs of the Safe Drinking Water Act. Elimination of a parameter in a given well could occur when that parameter had not been detected above the action limits per the procedures in the August 1988 Remedial Action Plan.

Table 1—Contaminants of Concern
[From the 1986 Record of Decision for the A & F Material Reclaiming Superfund Site]
Contaminant of concern | Action level (mg/l)
Trichloroethylene | 0.005
Benzene | 0.005
Phenolics | 0.001
Sulfates | 250
Nitrates | 10
Total Dissolved Solids | 500
Oil and Grease | 0.1
Chloride | 250
Arsenic | 0.05
Barium | 1
Cadmium | 1.01
Chromium | 0.05
Copper | 1.02
Iron | 0.3
Lead | 1.05
Manganese | 0.05
Nickel | 13.4
Silver | 0.005
Thallium | 0.013
Zinc | 1
Note: Toxicity, Conductivity, and Aluminum were listed but were not given an action level and were not included in the long-term monitoring plan.

Between 1990 and 1999 sixteen of the twenty monitoring parameters were eliminated as their concentrations had dropped below their respective action levels. Following the March 1999 sampling event, only four of the original twenty parameters were monitored: Iron, manganese, sulfate, and TDS. These parameters were eliminated as site contaminants of concern in the 2010 ESD. With the elimination of the four remaining site contaminants of concern, the action levels identified in the 1986 EDD for OU2 for these contaminants are no longer applicable or relevant and appropriate. Therefore, all groundwater cleanup levels have been attained and groundwater monitoring will no longer be required. Cumberland County and the Village of Greenup were notified by EPA in May 2010 that no further groundwater monitoring will be required. As noted previously, confirmatory soil sampling has indicated that all compounds sampled and analyzed for yielded either non-detectable levels or levels that are still below action levels for soil. All monitoring conducted for surface water and sediments in the Embarras River were below sediment action levels and surface water quality criteria for all groundwater parameters listed in the EDD, as modified by the ESD. The COCs that were listed in the 1985 EDD included the following: Trichloroethylene, benzene, sulfates, TDS, oil and grease, copper, silver, zinc, lead, chromium (+6), barium, thallium, phenolics, total organic halogens, nitrates, chloride, conductivity, nickel, aluminum, iron, manganese, cadmium, and arsenic.

Operation and Maintenance

Operation and maintenance activities are no longer required at this Site.

Five-Year Reviews

Policy five-year reviews were completed for the A & F Material Reclaiming Site on September 27, 2000; September 29, 2005; and June 30, 2010. The June 30, 2010 five-year review concluded that the site remedy was protective of human health and the environment. No issues or recommendations were identified as part of this review. This five-year review also concluded that the cleanup goals for soil and groundwater have been achieved and that hazardous wastes no longer remain on site that would prohibit unlimited use or unrestricted exposure. Therefore, five-year reviews are no longer required at the A & F Material Reclaiming Superfund Site.

Community Involvement

Public participation activities have been satisfied as required in CERCLA Section 113(k), 42 U.S.C. 9613(k), and CERCLA Section 117, 42 U.S.C. 9617. Documents in the deletion docket, which EPA relied on for recommendation of the deletion of this Site from the NPL, are available to the public in the information repositories and at www.regulations.gov.

Determination That the Site Meets the Criteria for Deletion in the NCP

The NCP (40 CFR 300.425(e)) states that a site may be deleted from the NPL when no further response action is appropriate. EPA, in consultation with the State of Illinois, has determined that the responsible parties have implemented all response actions required, and no further response action by responsible parties is appropriate.

V. Deletion Action

EPA, with concurrence from the State of Illinois through IEPA, has determined that all appropriate response actions under CERCLA have been completed. EPA received concurrence from the State of Illinois on January 10, 2012. Therefore, EPA is deleting the Site from the NPL.

Because EPA considers this action to be noncontroversial and routine, EPA is taking it without prior publication. This action will be effective June 11, 2012 unless EPA receives adverse comments by May 14, 2012. If adverse comments are received within the 30-day public comment period, EPA will publish a timely withdrawal of this direct final Notice of Deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, and Water supply.

Dated: March 19, 2012.
Susan Hedman,
Regional Administrator Region 5.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing “A & F Material Reclaiming, Inc.”, “Greenup”, “IL”.

[FR Doc. 2012-8855 Filed 4-11-12; 8:45 am]

BILLING CODE 6560-50-P